DEPARTMENT OF AGRICULTURE

Forest Service

RIN 0596-AC12

Grazing Permit Administration Handbook (FSH 2209.13), Chapters 10 (Term Grazing Permits) and 20 (Grazing Agreements)

AGENCY: Forest Service, USDA Forest Service.

ACTION: Notice; request for comment.

SUMMARY: On July 19, 2005, the Forest Service published a notice in the Federal Register with request for comment on the issuance of two interim directives (IDs) to Forest Service Handbook (FSH) 2209.13, chapter 10—Term Grazing Permits and chapter 20—Grazing Agreements. These IDs established procedures and responsibilities for administering term grazing permits and grazing agreements (FR 70 41370). On that same day, several other amendments to FSH 2209.13, as well as amendments to several chapters of Forest Service Manual (FSM) 2200 on Range Management were issued. The Forest Service has decided to rescind the IDs and reissue revised IDs. In addition, the Forest Service has prepared proposed directives containing the direction removed from the above mentioned IDs. Public comment is invited and will be considered in development of the final directives. Public comments received on the earlier ID's will also be considered.

DATES: Interim Directive no. 2209.13-2005-4 (Chapter 10); and Interim Directive no. 2209.13-2005-5 (Chapter 20) were effective August 16, 2005. Comments on the interim directives and the proposed directives must be received in writing by December 19, 2005.

ADDRESSES: Interim Directive no. 2209.13-2005-4 (Chapter 10); and Interim Directive no. 2209.13-2005-5 (Chapter 20) are available on the World Wide Web/Internet at http://www/fs/fed/us/im/directives. The proposed directives can be found on the Forest Service's Rangeland Management Web site at http://www/fs/fed/us/rangelands. Paper copies can be requested by writing to the USDA Forest Service, Attn: Director, Rangeland Management Staff, Mail Stop 1103, 1400 Independence Ave., SW., Washington, DC 20250-1153. Also send written comments by mail to that same address; by electronic mail to RgeID@fs.fed.us; or by facsimile to (202) 205-1096. If comments are sent by electronic means or by facsimile, the public is requested not to send duplicate comments via regular mail.

All comments, including names and addresses when provided, are placed in the record and available for public inspection and copying. The agency cannot confirm receipt of comments.

The public may inspect comments received on these proposed directives in the Rangeland Management Staff, 3rd Floor, South Wing, Yates Building, 14th and Independence Avenues, Southwest, Washington, DC, between the hours of 8:30 a.m. and 4 p.m. Those wishing to inspect comments are encouraged to call ahead to (202) 205-1460 to facilitate entry into the building.

FOR FURTHER INFORMATION CONTACT: Ralph Giffen, Rangeland Management Staff, USDA Forest Service, (202) 205-1455.

SUPPLEMENTARY INFORMATION: The last substantive amendments to the Forest Service Manual (FSM 2200) for Rangeland Management and Grazing Permit Administration Handbook (FSH 2209.13) were made in 1985. Clarifications and adjustments in policy are necessary to respond to changing needs of both the Forest Service and the livestock industry. Therefore, the Forest Service issued directive amendments to 14 chapters and interim directives to 2 chapters in FSM 2200 and FSH 2209.13 to ensure the agency is both current and consistent in working with grazing permittees in all Forest Service regions. The Office of Management and Budget (OMB) determined that none of changes in the chapters were significant. The Range Management regulations at 36 CFR part 222 were not changed.

Regulatory Certifications

Regulatory Impact

This notice has been reviewed under USDA procedures and Executive Order (E.O.) 12866, Regulatory Planning and Review. The Office of Management and Budget (OMB) has determined that it is substantive, nonsignificant. The directives would not have an annual effect of $100 million or more on the economy nor adversely affect productivity, competition, jobs, the environment, public health or safety, nor State or local governments. The directives would not interfere with an action taken or planned by another agency nor raise new legal or policy issues. Finally, the directives would not alter the budgetary impact on entitlements, grants, user fees, or loan programs or the rights and obligations of recipients of such programs.

Moreover, the directives have been considered in light of Executive Order 13272 regarding proper consideration of small entities and the Small Business Regulatory Enforcement Fairness Act of 1996 (SBREFA), which amended the Regulatory Flexibility Act (5 U.S.C. 601 et seq.). No direct or indirect financial impact on small businesses or other entities has been identified. Therefore, it is hereby certified that these directives will not have a significant economic impact on a substantial number of small entities as defined by this act.

Environmental Impact

These directives provide detailed direction to agency employees necessary to administer term grazing permits and grazing agreements. Section 31.12 of Forest Service Handbook 1909.15 (57 FR 43208; September 18, 1992) excludes from documentation in an environmental assessment or impact statement “rules, regulations, or policies to establish Service-wide administrative procedures, program processes, or instructions.” The agency's conclusion is that these directives fall within this category of actions and that no extraordinary circumstances exist as currently defined that require preparation of an environmental assessment or an environmental impact statement.

No Takings Implications

These directives have been analyzed in accordance with the principles and criteria contained in Executive Order 12360, Governmental Actions and Interference with Constitutionally Protected Property Rights, and it has been determined that they would not pose the risk of a taking of private property as they are limited to the establishment of administrative procedures.

Energy Effects

These directives have been analyzed under Executive Order 13211, Actions Concerning Regulations That Significantly Affect Energy Supply, Distribution, or Use. It has been determined that they do not constitute a significant energy action as defined in the Executive order.

Civil Justice Reform

These directives have been reviewed under Executive Order 12988, Civil Justice Reform. These directives will direct the work of Forest Service employees and are not intended to preempt any State and local laws and regulations that might be in conflict or that would impede full implementation of these directives. The directives would not retroactively affect existing permits, contracts, or other instruments authorizing the occupancy and use of National Forest System lands and would not require the institution of administrative proceedings before parties may file suit in court challenging their provisions.

Unfunded Mandates

Pursuant to Title II of the Unfunded Mandates Reform Act of 1995 (2 U.S.C. 1531-1538), which the President signed into law on March 22, 1995, the effects of these directives on State, local, and tribal governments, and on the private sector have been assessed and do not compel the expenditure of $100 million or more by any State, local, or Tribal government, or anyone in the private sector. Therefore, a statement under section 202 of the act is not required.

Federalism

The agency has considered these directives under the requirements of Executive Order 13132, Federalism. The agency has made a preliminary assessment that the directives conform with the federalism principles set out in this Executive order; would not impose any significant compliance costs on the States; and would not have substantial direct effects on the States, on the relationship between the National Government and the States, or on the distribution of power and responsibilities among the various levels of government. Moreover, these directives address term grazing permits and grazing agreements on national forests and grasslands, which do not directly affect the States. Based on comments received on these directives, the agency will consider if any additional consultation will be needed with State and local governments prior to adopting final directives.

Consultation and Coordination With Indian Tribal Governments

These directives do not have tribal implications as defined by Executive Order 13175, Consultation and Coordination with Indian Tribal Governments, and therefore, advance consultation with Tribes is not required.

Controlling Paperwork Burdens on the Public

These directives do not contain any record keeping or reporting requirements or other information collection requirements as defined in 5 CFR part 1320 and, therefore, impose no paperwork burden on the public. Accordingly, the review provisions of the Paperwork Reduction Act of 1995 (44 U.S.C. 3501 et seq.) and implementing regulations at 5 CFR part 1320 do not apply.

Conclusion

The Forest Service is committed to providing adequate opportunities for the public to comment on administrative directives that are of substantial public interest or controversy, as provided in the regulations at 36 CFR part 216. Because it is important to provide Forest Service units with updated guidance and direction in a comprehensive integrated package, the agency issued the ID's on August 16, 2005, making them effective immediately. However, pursuant to 36 CFR 216.7, the Forest Service is also requesting public comment on the ID's along with the proposed directives.

All comments will be considered in the development of final directives.

Paper copies are available upon request from the address and phone numbers listed in the ADDRESSES section of this notice, as well as from the nearest Regional Office, the location of which are also available on the Washington Office headquarters home page on the World Wide Web at http://www.fs.fed.us.

Dated: August 16, 2005.
Sally D. Collins,
Associate Chief of the Forest Service.

[FR Doc. 05-16493 Filed 8-18-05; 8:45 am]

BILLING CODE 3410-11-P